NUCLEAR REGULATORY COMMISSION

[Docket No. 52-037; NRC-2008-0556]

AmerenUE Combined License Application for Callaway Plant, Unit 2 Nuclear Power Plant

AGENCY: Nuclear Regulatory Commission.

ACTION: Application for combined license; withdrawal.

SUMMARY: The U.S. Nuclear Regulatory Commission (NRC) is withdrawing an application for a combined license (COL) for the Callaway Plant, Unit 2 Nuclear Power Plant in Callaway County, Missouri. The COL application is being withdrawn at the request of the applicant, AmerenUE (Ameren).

DATES: The effective date of the withdrawal of Ameren's combined license application for Callaway Plant, Unit 2 Nuclear Power Plant is November 5, 2015.

ADDRESSES: Please refer to Docket ID NRC-2008-0556 when contacting the NRC about the availability of information regarding this document. You may obtain publicly-available information related to this document using any of the following methods:

• Federal Rulemaking Web site: Go to http://www.regulations.gov and search for Docket ID NRC-2008-0556. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Prosanta Chowdhury, Office of New Reactors, U.S. Nuclear Regulatory Commission, Washington DC 20555-0001; telephone: 301-415-1647, email: Prosanta.Chowdhury@nrc.gov.

SUPPLEMENTARY INFORMATION: By letter dated July 24, 2008, as supplemented by letters dated September 24, 2008, and November 14, 2008, AmerenUE (Ameren) submitted an application to the NRC for a COL for a single unit of the U.S. Evolutionary Power Reactor (U.S. EPR) in accordance with the requirements contained in part 52 of title 10 of the Code of Federal Regulations (10 CFR), “Licenses, Certifications, and Approvals for Nuclear Power Plants.” This reactor would be identified as Callaway Plant, Unit 2 and located at the current Callaway County, Missouri site of Callaway Power Plant (NRC License No. NPF-30).

On December 18, 2008, a notice was published in the Federal Register (73 FR 77078) announcing the acceptance of the Callaway Plant, Unit 2 COL application for docketing in accordance with 10 CFR part 2, “Agency Rules of Practice and Procedure,” and 10 CFR part 52. The NRC docket number established for this application is 52-037.

By letter dated June 23, 2009, Ameren requested that the NRC staff suspend all activities relating to the COL application (ADAMS Accession No. ML091750988). By letter dated June 29, 2009, the NRC granted the suspension of the COL application (ADAMS Accession No. ML091750665). By letter dated August 12, 2015, Ameren requested that the Callaway Plant, Unit 2 COL application be withdrawn (ADAMS Accession No. ML15265A524). Pursuant to the requirements in 10 CFR part 2, the Commission grants Ameren its request to withdraw the Callaway Plant, Unit 2 COL application.

Dated at Rockville, Maryland, this 29th day of October 2015.
For the Nuclear Regulatory Commission.
Francis M. Akstulewicz,
Director, Division of New Reactor Licensing, Office of New Reactors.

[FR Doc. 2015-28258 Filed 11-4-15; 8:45 am]

BILLING CODE 7590-01-P